EQUAL EMPLOYMENT OPPORTUNITY COMMISSION

Senior Executive Service Performance Review Board—Appointment of Members

AGENCY: U.S. Equal Employment Opportunity Commission (EEOC).

ACTION: Notice.

SUMMARY: Notice is hereby given of the appointment of members to the Performance Review Board (PRB) of the EEOC.

FOR FURTHER INFORMATION CONTACT: Kevin L. Richardson, Chief Human Capital Officer, EEOC, 131 M Street NE, Washington, DC 20507, (202) 663-4306.

SUPPLEMENTARY INFORMATION: Publication of the PRB membership is required by 5 U.S.C. 4314(c)(4). The PRB reviews and evaluates the initial appraisal of a senior executive's performance by the supervisor, and makes recommendations to the Chair, EEOC, with respect to performance ratings, pay level adjustments, and performance awards.

The following are the names and titles of executives appointed to serve as members of the Senior Executive Service PRB. Designated members will serve a 12-month term, which begins on November 2, 2020.

PRB Chair:

Dr. Chris Haffer, Chief Data Officer, EEOC

Members:

Mr. Brett Brenner, Associate Director, Office of Congressional and Legislative Affairs, EEOC

Mr. Dexter Brooks, Associate Director, Federal Sector Programs, EEOC

Ms. Jennifer Goldstein, Associate General Counsel, Appellate Services, EEOC

Ms. Jamie Williamson, Director, Philadelphia District, EEOC

By the direction of the Commission.
Martin Ebel,
Chief Operating Officer.

[FR Doc. 2020-18657 Filed 8-24-20; 8:45 am]

BILLING CODE 6570-01-P